COMMITTEE FOR PURCHASE FROM PEOPLE WHO ARE BLIND OR SEVERELY DISABLED

Procurement List: Proposed Additions and Deletions

AGENCY: Committee for Purchase From People Who Are Blind or Severely Disabled.

ACTION: Proposed additions to and deletions from Procurement List.

SUMMARY: The Committee is proposing to add to the Procurement List a product and a service to be furnished by nonprofit agencies employing persons who are blind or have other severe disabilities, and to delete products previously furnished by such agencies.

Comments Must Be Received on or Before: March 8, 2010.

ADDRESSES: Committee for Purchase From People Who Are Blind or Severely Disabled, Jefferson Plaza 2, Suite 10800, 1421 Jefferson Davis Highway, Arlington, Virginia 22202-3259.

For Further Information or To Submit Comments Contact: Barry S. Lineback, Telephone: (703) 603-7740, Fax: (703) 603-0655, or e-mail CMTEFedReg@AbilityOne.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice will be required to provide the product and service listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will provide the product and service to the Government.

2. If approved, the action will result in authorizing small entities provide the product and service to the Government.

3. There are no known regulatory alternatives which would accomplish the objectives of the Javits-Wagner-O'Day Act (41 U.S.C. 46-48c) in connection with the product proposed for addition to the Procurement List.

Comments on this certification are invited. Commenters should identify the statement(s) underlying the certification on which they are providing additional information.

End of Certification

The following product and service are proposed for addition to Procurement List for production by the nonprofit agencies listed:

Product

NSN: 2090-00-372-6064—Repair Kit, Standard.

NPA: Mid-Valley Rehabilitation, Inc., McMinnville, OR.

Contracting Activity: Defense Logistics Agency, Defense Supply Center Columbus, Columbus, OH.

Coverage: C-List for the requirements for the Defense Supply Center Columbus, Columbus, OH.

Service

Service Type/Location: Base Supply Center, Defense Supply Center Columbus, 3990 E Broad Street, Columbus, OH.

NPA: Associated Industries for the Blind, Milwaukee, WI.

Contracting Activity: Defense Logistics Agency, Defense Supply Center Columbus, Columbus, Ohio.

Deletions

Regulatory Flexibility Act Certification

I certify that the following action will not have a significant impact on a substantial number of small entities. The major factors considered for this certification were:

1. If approved, the action will not result in additional reporting, recordkeeping or other compliance requirements for small entities.

2. If approved, the action may result in authorizing small entities to furnish the products to the Government.

3. There are no known regulatory alternatives which would accomplish the objectives of the Javits-Wagner-O'Day Act (41 U.S.C. 46-48c) in connection with the products proposed for deletion from the Procurement List.

End of Certification

The following products are proposed for deletion from the Procurement List:

Products: Inkjet Cartridge.

NSN: 7510-01-544-0833

NSN: 7510-01-544-0836

NSN: 7510-01-544-0832

NSN: 7510-01-544-0835

NSN: 7510-01-544-0837

NSN: 7510-01-544-0823

NSN: 7510-01-544-0829

NSN: 7510-01-544-0827

NSN: 7510-01-544-0819

NSN: 7510-01-544-0830

NSN: 7510-01-544-0820

NSN: 7510-01-544-0826

NSN: 7510-01-544-0825

NSN: 7510-01-544-0831

NSN: 7510-01-544-0839

NSN: 7510-01-539-9836

NSN: 7510-01-539-9837

NSN: 7510-01-539-9842

NSN: 7510-01-539-9838

NSN: 7510-01-539-9834

NSN: 7510-01-544-1733

NSN: 7510-01-544-0838

NPA: Alabama Industries for the Blind, Talladega, AL

Contracting Activity: GSA/FSS OFC SUP CTR—PAPER PRODUCTS, NEW YORK, NY

NSN: 6230-01-513-3265—Flashlight, Aluminum, 2D, Blue

NSN: 6230-01-513-3268—Flashlight, Aluminum, 2D, Red

NSN: 6230-01-513-3279—Flashlight, Aluminum, 4D, Red

NPA: Central Association for the Blind & Visually Impaired, Utica, NY

Contracting Activity: GSA/FSS OFC SUP CTR—PAPER PRODUCTS, NEW YORK, NY

Barry S. Lineback,
Director, Business Operations.

[FR Doc. 2010-2507 Filed 2-4-10; 8:45 am]

BILLING CODE 6353-01-P